DEPARTMENT OF ENERGY

Federal Energy Regulatory Commission

Combined Notice of Filings #1

Take notice that the Commission received the following electric corporate filings:

Docket Numbers: EC25-60-000.

Applicants: Hecate Energy Desert Storage 1 LLC, Hecate Energy Johanna Facility LLC, Ortega Grid, LLC, San Jacinto Grid, LLC.

Description: Joint Application for Authorization Under Section 203 of the Federal Power Act of Hecate Energy Desert Storage 1 LLC, et al.

Filed Date: 3/4/25.

Accession Number: 20250304-5172.

Comment Date: 5 p.m. ET 3/25/25.

Take notice that the Commission received the following exempt wholesale generator filings:

Docket Numbers: EG25-179-000.

Applicants: FRP Caldwell Solar, LLC.

Description: FRP Caldwell Solar, LLC submits Notice of Self-Certification of Exempt Wholesale Generator Status.

Filed Date: 3/3/25.

Accession Number: 20250303-5242.

Comment Date: 5 p.m. ET 3/24/25.

Docket Numbers: EG25-180-000.

Applicants: DG VDH BESS, LLC.

Description: DG VDH BESS, LLC submits Notice of Self-Certification of Exempt Wholesale Generator Status.

Filed Date: 3/4/25.

Accession Number: 20250304-5167.

Comment Date: 5 p.m. ET 3/25/25.

Take notice that the Commission received the following Complaints and Compliance filings in EL Dockets:

Docket Numbers: EL25-63-000.

Applicants: Savion, LLC v. PJM Interconnection, L.L.C.

Description: Complaint of Savion, LLC v. PJM Interconnection, L.L.C. and Request for Fast Track Processing.

Filed Date: 3/3/25.

Accession Number: 20250303-5128.

Comment Date: 5 p.m. ET 3/24/25.

Take notice that the Commission received the following electric rate filings:

Docket Numbers: ER12-1260-017; ER13-1793-016; ER22-541-001; ER22-544-001; ER22-545-001; ER15-1494-003; ER22-543-001; ER22-542-001.

Applicants: NSF Chaumont Site 2 LLC, Bracewell LLP, NSF Chaumont Site 3 LLC, Bracewell LLP, Convergent Energy and Power Inc., NSF Chaumont Site 5 LLC, Bracewell LLP, NSF Chaumont Site 4 LLC, Bracewell LLP, NSF Chaumont Site 1 LLC, Bracewell LLP, Hazle Spindle, LLC, Stephentown Spindle, LLC.

Description: Supplement to June 30, 2023, Triennial Market Power Analysis for Northeast Region of Stephentown Spindle, LLC, et al.

Filed Date: 3/4/25.

Accession Number: 20250304-5161.

Comment Date: 5 p.m. ET 3/25/25.

Docket Numbers: ER22-2161-002.

Applicants: Golden Spread Electric Cooperative, Inc.

Description: Compliance Filing of Golden Spread Electric Cooperative, Inc.

Filed Date: 2/28/25.

Accession Number: 20250228-5316.

Comment Date: 5 p.m. ET 3/21/25.

Docket Numbers: ER24-1393-002.

Applicants: Public Service Company of New Mexico.

Description: Compliance filing: Amended Order No. 2023/2023-A Compliance Filing to be effective 5/16/2025.

Filed Date: 3/4/25.

Accession Number: 20250304-5180.

Comment Date: 5 p.m. ET 3/25/25.

Docket Numbers: ER25-1466-000.

Applicants: DTE Electric Company, Beecher Solar, LLC.

Description: Request for Limited and Prospective Tariff Waiver of Beecher Solar, LLC, et al.

Filed Date: 2/28/25.

Accession Number: 20250228-5471.

Comment Date: 5 p.m. ET 3/21/25.

Docket Numbers: ER25-1482-000.

Applicants: American Transmission Systems, Incorporated.

Description: § 205(d) Rate Filing: ATSI submits Revised SA No. 5196 and SA No. 2852 to be effective 5/5/2025.

Filed Date: 3/4/25.

Accession Number: 20250304-5074.

Comment Date: 5 p.m. ET 3/25/25.

Docket Numbers: ER25-1483-000.

Applicants: Tri-State Generation and Transmission Association, Inc.

Description: Tariff Amendment: Notice of Cancellation of Rate Schedule FERC No. 159 to be effective 5/4/2025.

Filed Date: 3/4/25.

Accession Number: 20250304-5075.

Comment Date: 5 p.m. ET 3/25/25.

Docket Numbers: ER25-1485-000.

Applicants: Midcontinent Independent System Operator, Inc.

Description: § 205(d) Rate Filing: 2025-03-04_Tariff Management Clean-up Filing to be effective 5/4/2025.

Filed Date: 3/4/25.

Accession Number: 20250304-5082.

Comment Date: 5 p.m. ET 3/25/25.

Docket Numbers: ER25-1486-000.

Applicants: Tri-State Generation and Transmission Association, Inc.

Description: Tariff Amendment: Notice of Cancellation of Service Agreement FERC No. 848 to be effective 5/4/2025.

Filed Date: 3/4/25.

Accession Number: 20250304-5087.

Comment Date: 5 p.m. ET 3/25/25.

Docket Numbers: ER25-1487-000.

Applicants: Midcontinent Independent System Operator, Inc.

Description: § 205(d) Rate Filing: 2026-03-04_SA 4454 NSP-Timberwolf Wind FSA (J1072) to be effective 5/4/2025.

Filed Date: 3/4/25.

Accession Number: 20250304-5107.

Comment Date: 5 p.m. ET 3/25/25.

Docket Numbers: ER25-1488-000.

Applicants: PacifiCorp.

Description: § 205(d) Rate Filing: Colstrip Trans System LGIA—Concurrence Jane Wind RS 366 (RS No. 795) to be effective 2/26/2025.

Filed Date: 3/4/25.

Accession Number: 20250304-5116.

Comment Date: 5 p.m. ET 3/25/25.

Docket Numbers: ER25-1489-000.

Applicants: PacifiCorp.

Description: § 205(d) Rate Filing: Colstrip Trans System LGIA—Concurrence Jane Wind RS 367 (RS No. 796) to be effective 2/26/2025.

Filed Date: 3/4/25.

Accession Number: 20250304-5122.

Comment Date: 5 p.m. ET 3/25/25.

Docket Numbers: ER25-1490-000.

Applicants: Convergent Energy and Power LP.

Description: Compliance filing: Compliance filing 2025 to be effective 3/5/2025.

Filed Date: 3/4/25.

Accession Number: 20250304-5125.

Comment Date: 5 p.m. ET 3/25/25.

Docket Numbers: ER25-1491-000.

Applicants: Stephentown Spindle, LLC.

Description: Compliance filing: Compliance filing 2025 to be effective 3/5/2025.

Filed Date: 3/4/25.

Accession Number: 20250304-5127.

Comment Date: 5 p.m. ET 3/25/25.

Docket Numbers: ER25-1492-000.

Applicants: Hazle Spindle, LLC.

Description: Compliance filing: Compliance filing 2025 to be effective 3/5/2025.

Filed Date: 3/4/25.

Accession Number: 20250304-5130.

Comment Date: 5 p.m. ET 3/25/25.

Docket Numbers: ER25-1493-000.

Applicants: NSF Chaumont Site 1 LLC.

Description: Compliance filing: Compliance filing 2025 to be effective 3/5/2025.

Filed Date: 3/4/25.

Accession Number: 20250304-5131.

Comment Date: 5 p.m. ET 3/25/25.

Docket Numbers: ER25-1494-000.

Applicants: NSF Chaumont Site 2 LLC.

Description: Compliance filing: Compliance filing 2025 to be effective 3/5/2025.

Filed Date: 3/4/25.

Accession Number: 20250304-5134.

Comment Date: 5 p.m. ET 3/25/25.

Docket Numbers: ER25-1495-000.

Applicants: NSF Chaumont Site 3 LLC.

Description: Compliance filing: Compliance filing 2025 to be effective 3/5/2025.

Filed Date: 3/4/25.

Accession Number: 20250304-5135.

Comment Date: 5 p.m. ET 3/25/25.

Docket Numbers: ER25-1496-000.

Applicants: NSF Chaumont Site 4 LLC.

Description: Compliance filing: Compliance filing 2025 to be effective 3/5/2025.

Filed Date: 3/4/25.

Accession Number: 20250304-5136.

Comment Date: 5 p.m. ET 3/25/25.

Docket Numbers: ER25-1497-000.

Applicants: NSF Chaumont Site 5 LLC.

Description: Compliance filing: Compliance filing 2025 to be effective 3/5/2025.

Filed Date: 3/4/25.

Accession Number: 20250304-5137.

Comment Date: 5 p.m ET 3/25/25.

Docket Numbers: ER25-1499-000.

Applicants: Tenaska Energía de Mexico, S. de R. L. de C.V.

Description: Tariff Amendment: Notice of Cancellation to be effective 3/5/2025.

Filed Date: 3/4/25.

Accession Number: 20250304-5177.

Comment Date: 5 p.m. ET 3/25/25.

Docket Numbers: ER25-1500-000.

Applicants: Portland General Electric Company.

Description: Petition for Limited Waiver of Portland General Electric Company.

Filed Date: 3/4/25.

Accession Number: 20250304-5182.

Comment Date: 5 p.m. ET 3/25/25.

Docket Numbers: TX25-2-000.

Applicants: 90FI 8me LLC.

Description: Application for Order Directing Transmission Service and Interconnection of Facilities of 90FI 8me LLC.

Filed Date: 2/27/25.

Accession Number: 20250227-5345.

Comment Date: 5 p.m. ET 3/20/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 4, 2025.
Carlos D. Clay,
Deputy Secretary.

[FR Doc. 2025-03787 Filed 3-7-25; 8:45 am]

BILLING CODE 6717-01-P